DEPARTMENT OF THE INTERIOR

Bureau of Land Management

[AZ-931-1430-ET; AZA 33447]

Notice of Proposed Withdrawal and Opportunity for Public Meeting; Arizona

AGENCY: Bureau of Land Management, Interior.

ACTION: Notice.

SUMMARY: The United States Forest Service has filed an application requesting the Secretary of the Interior to withdraw 62.08 acres of National Forest System land from mining to protect the Red Rock Ranger District Administrative Site, Coconino National Forest. This notice segregates the land for up to 2 years from location and entry under the United States mining laws. The land will remain open to all other uses which may by law be authorized on these National Forest System lands.

DATES: Comments and requests for a public meeting must be received on or before April 9, 2007.

ADDRESSES: Comments and meeting requests should be sent to the Bureau of Land Management, Attn: Lands Program Lead, Resources Division, One North Central Avenue, Suite 800, Phoenix, Arizona 85004 and to the Forest Supervisor, Coconino National Forest, 1824 S. Thompson Street, Flagstaff, Arizona 86001.

FOR FURTHER INFORMATION CONTACT: Pete Mourtsen, Coconino National Forest, at the above address or at (928) 527-3414.

SUPPLEMENTARY INFORMATION: The United States Forest Service has filed an application with the Bureau of Land Management, pursuant to Section 204 of the Federal Land Policy and Management Act of 1976, 43 U.S.C. 1714, to withdraw the following-described National Forest System land within the Coconino National Forest for a period of 20 years from location and entry under the United States mining laws, subject to valid existing rights:

Gila and Salt River Meridian

T. 16 N., R. 5 E.,

Sec. 25: S½SE¼NE¼ and

T. 16 N., R. 6 E.,

Sec. 30, lot 2.

The area described contains 62.08 acres in Yavapai County, Arizona.

The purpose of the proposed withdrawal is to protect the significant Federal investment in administrative facilities to be built at the Forest Service Red Rock Ranger District Administrative Site (Administrative Site) within the Coconino National Forest.

The use of a right-of-way, an interagency agreement, or a cooperative agreement would not adequately constrain nondiscretionary mining locations and related uses and therefore would not provide adequate protection of the Federal investment in the Administrative Site.

There are no suitable alternative sites that can be considered because the land proposed for withdrawal contains the Administrative Site.

No additional water rights will be needed to fulfill the purpose of the requested withdrawal.

Records relating to the application may be examined by interested parties at the address of the Bureau of Land Management office stated above.

For a period of 90 days from the date of publication of this notice, all persons who wish to submit comments, suggestions, or objections in connection with the proposed withdrawal may present their views in writing, by the date specified above, to both the Bureau of Land Management, Attn: Lands Program Lead, Resources Division, and the Forest Supervisor, Coconino National Forest, at the addresses stated above.

Notice is hereby given that an opportunity for a public meeting is afforded in connection with the proposed withdrawal. All interested persons who desire a public meeting for the purpose of being heard on the proposed withdrawal must submit a written request, by the date specified above, to both the Bureau of Land Management, Attn: Lands Program Lead, Resources Division, and the Forest Supervisor, Coconino National Forest, at the addresses stated above. Upon determination by the authorized officer that a public meeting will be held, a notice of time and place will be published in the Federal Register and in at least one newspaper having a general circulation in the vicinity of the lands involved at least 30 days before the scheduled date of the meeting.

The application will be processed in accordance with the regulations set forth in 43 CFR part 2300.

Comments, including names and street addresses of respondents, will be available for public review at the Coconino National Forest (address above), during regular business hours 7:30 a.m. to 4:30 p.m., Monday through Friday, except holidays. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

On January 9, 2007 the above-described land will be segregated from location and entry under the United States mining laws. The segregative effect of the publication of this notice shall terminate upon denial or cancellation of the subject application, approval of the application, or January 8, 2009, whichever occurs first.

(Authority: 43 CFR 2310.3-1(b)).

Dated: November 6, 2006.
Michael A. Taylor,
Deputy State Director, Resources.

[FR Doc. E7-82 Filed 1-8-07; 8:45 am]

BILLING CODE 3410-11-P